DEPARTMENT OF ENERGY

Federal Energy Regulatory Commission

[Docket No. ER13-1252-000]

California Power Exchange Corporation; Notice Setting Deadline To File Reply Comments

On April 29, 2013, the California Power Exchange Corporation filed a motion requesting the Commission to set the date by which it may file reply comments in the above-referenced proceeding. Notice is hereby given that the deadline for submitting such reply comments is set as May 10, 2013.

Dated: May 2, 2013.
Kimberly D. Bose,
Secretary.

[FR Doc. 2013-10950 Filed 5-7-13; 8:45 am]

BILLING CODE 6717-01-P